DEPARTMENT OF TRANSPORTATION

Federal Aviation Administration

Notice of Intent To Rule on Application 03-02-C-00-VPS To Impose and Use the Revenue From a Passenger Facility Charge (PFC) at Okaloosa Regional Airport, Valparaiso, FL

AGENCY: Federal Aviation Administration (FAA), DOT.

ACTION: Notice of Intent to Rule on Application.

SUMMARY: The FAA proposes to rule and invites public comment on the application to impose and use the revenue from a PFC at Okaloosa Regional Airport under the provisions of the 49 U.S.C. 40117 and part 158 of the Federal Aviation Regulations (14 CFR part 158).

DATES: Comments must be received on or before May 15, 2003.

ADDRESSES: Comments on this application may be mailed or delivered in triplicate to the FAA at the following address: Federal Aviation Administration, Orlando Airports District Office, 5950 Hazeltine National Drive, Suite 400, Orlando, Florida 32822-5024.

In addition, one copy of any comments submitted to the FAA must be mailed or delivered to Mr. Jerry Sealy, Airport Director of the County of Okaloosa, FL at the following address: Okaloosa Regional Airport, State Road 85, Eglin AFB, FL, 32542.

Air carriers and foreign air carriers may submit copies of written comments previously provided to the County of Okaloosa, FL under § 158.23 of Part 158.

FOR FURTHER INFORMATION CONTACT: Mr. Bill Farris, Program Manager, Orlando Airports District Office, Suite 400, 5950 Hazeltine National Drive, Orlando, Florida 32822, (407) 812-6331 Ext. 25. The application may be reviewed in person at this same location.

SUPPLEMENTARY INFORMATION: The FAA proposes to rule and invites public comment on the application to impose and use the revenue from a PFC at Okaloosa Regional Airport under the provisions of the 49 U.S.C. 40117 and part 158 of the Federal Aviation Regulations (14 CFR part 158).

On April 2, 2003, the FAA determined that the application to impose and use the revenue from a PFC submitted by Okaloosa County, FL was substantially complete within the requirements of § 158.25 of part 158. The FAA will approve or disapprove the application, in whole or in part, no later than July 17, 2003.

The following is a brief overview of the application.

Proposed charge effective date: August 1, 2018.

Proposed charge expiration date: December 1, 2019.

Level of the proposed PFC: $4.50.

Total estimated PFC revenue: $2,885,235.

Brief description of proposed project(s): Expand surface parking lot, project formulation costs.

Class or classes of air carriers which the public agency has requested not be required to collect PFCs: Charter operators.

Any person may inspect the application in person at the FAA office listed above under FOR FURTHER INFORMATION CONTACT and at the FAA regional Airports office located at: Federal Aviation Administration Southern Region Headquarters, Airports Division ASO-600, 1701 Columbia Ave., College Park, Georgia 30337.

In addition, any person may, upon request, inspect the application, notice and other documents germane to the application in person at the Okaloosa Regional Airport.

Issued in Orlando, FL, on April 2, 2003.
W. Dean Stringer,
Manager, Orlando Airports District Office, Southern Region.

[FR Doc. 03-9080 Filed 4-14-03; 8:45 am]

BILLING CODE 4910-13-M